DEPARTMENT OF DEFENSE

Office of the Secretary

Charter Renewal of Department of Defense Federal Advisory Committee

AGENCY: Department of Defense.

ACTION: Renewal of Federal Advisory Committee.

SUMMARY: The Department of Defense (DoD) is publishing this notice to announce that it is renewing the charter for the Department of Defense Military Family Readiness Council (“the Council”).

FOR FURTHER INFORMATION CONTACT: Jim Freeman, Advisory Committee Management Officer for the Department of Defense, 703-692-5952.

SUPPLEMENTARY INFORMATION: The Council's charter is being renewed under the provisions of 10 U.S.C. 1781a, as amended and in accordance with the Federal Advisory Committee Act (FACA) of 1972 (5 U.S.C., Appendix, as amended) and 41 CFR 102-3.50(a). The Council's charter and contact information for the Council's Designated Federal Officer (DFO) can be found at http://www.facadatabase.gov/.

The Council shall review and provide independent advice and recommendations to the Secretary of Defense and the Deputy Secretary of Defense, through the Under Secretary of Defense for Personnel and Readiness, regarding the plans required under 10 U.S.C. 1781b, monitor requirements for the support of military family readiness by the DoD, and evaluate and assess the effectiveness of the military family readiness programs and activities of the DoD.

The Council is composed of 18 members as specified in 10 U.S.C. 1781a(b), as amended. All members of the Council are appointed to provide advice on behalf of the Government on the basis of their best judgment without representing any particular point of view and in a manner that is free from conflict of interest. Except for reimbursement of official Council-related travel and per diem, Council members serve without compensation.

The public or interested organizations may submit written statements to the Council membership about the Council's mission and functions. Written statements may be submitted at any time or in response to the stated agenda of planned meeting of the Council. All written statements shall be submitted to the DFO for the Council, and this individual will ensure that the written statements are provided to the membership for their consideration.

Dated: November 16, 2016.
Aaron Siegel,
Alternate OSD Federal Register Liaison Officer, Department of Defense.

[FR Doc. 2016-27970 Filed 11-18-16; 8:45 am]

BILLING CODE 5001-06-P